DEPARTMENT OF COMMERCE

Foreign-Trade Zones Board

[B-37-2014]

Foreign-Trade Zone 183—Austin, Texas, Authorization of Production Activity, Samsung Austin Semiconductor, L.L.C. (Semiconductors), Austin, Texas

On April 28, 2014, Samsung Austin Semiconductor, L.L.C. submitted a notification of proposed production activity to the Foreign-Trade Zones (FTZ) Board for its facility within Subzone 183B, in Austin, Texas.

The notification was processed in accordance with the regulations of the FTZ Board (15 CFR part 400), including notice in the Federal Register inviting public comment (79 FR 27573, 5-14-2014). The FTZ Board has determined that no further review of the activity is warranted at this time. The production activity described in the notification is authorized, subject to the FTZ Act and the Board's regulations, including Section 400.14.

Dated: August 26, 2014.
Andrew McGilvray,
Executive Secretary.

[FR Doc. 2014-20653 Filed 8-28-14; 8:45 am]

BILLING CODE 3510-DS-P